DEPARTMENT OF HOMELAND SECURITY

Coast Guard

33 CFR Part 110

[Docket Number USCG-2012-0806]

RIN 1625-AA01

Anchorage Regulations; Connecticut River, Old Saybrook, CT

AGENCY: Coast Guard, DHS.

ACTION: Notice of proposed rulemaking.

SUMMARY: The Coast Guard proposes to establish three special anchorage areas in the Connecticut River in the vicinity Old Saybrook, CT. This proposed action is necessary to facilitate safe navigation in that area and provide safe and secure anchorages for vessels less than 20 meters in length. This action is intended to increase the safety of life and property in the Connecticut River in the vicinity of Old Saybrook, improve the safety of anchored vessels, and provide for the overall safe and efficient flow of vessel traffic and commerce. We invite your comments on this proposed rulemaking.

DATES: Comments and related material must be received by the Coast Guard on or before December 28, 2015.

ADDRESSES: You may submit comments identified by docket number USCG-2012-0806 using the Federal eRulemaking Portal at http://www.regulations.gov. See the “Public Participation and Request for Comments” portion of the SUPPLEMENTARY INFORMATION section for further instructions on submitting comments.

FOR FURTHER INFORMATION CONTACT: If you have questions about this proposed rulemaking, contact Mr. Craig Lapiejko, Waterways Management at Coast Guard First District, telephone 617-223-8351, email craig.d.lapiejko@uscg.mil or Chief Ian Fallon, Waterways Management Division at Coast Guard Sector Long Island Sound, telephone 203-468-4565, email ian.m.fallon@uscg.mil.

SUPPLEMENTARY INFORMATION:

I. Table of Abbreviations

CFR Code of Federal Regulations

DHS Department of Homeland Security

E.O. Executive order

FR Federal Register

NPRM Notice of proposed rulemaking

Pub. L. Public Law

§ Section

U.S.C.the United States Code

II. Background, Purpose, and Legal Basis

The proposed special anchorage areas are intended to reduce the risk of vessel collisions and to promote safe and efficient travel in the navigable channels of the Connecticut River adjacent to Calves Island, and also to aid the town of Old Saybrook in enforcing its mooring and boating regulations by clearly defining the mooring fields currently established by the town. All proposed coordinates are North American Datum 1983 (NAD 83).

The rule is intended to reduce the risk of vessel collisions by creating three special anchorage areas in the Connecticut River in the vicinity of the eastern portion of Old Saybrook, CT. The Coast Guard proposes this rulemaking under authority in 33 U.S.C. 471, 1221 through 1236, and 2071.

III. Discussion of Proposed Rule

The proposed rule would create three new special anchorage areas, referred to as special anchorage areas A, B, and C in the Connecticut River in the vicinity of the Old Saybrook, CT. Special anchorage area A is approximately 680,800 sq. yards and would be located between Ferry Point and Calves Island, upstream of the I-95/US RT 1 Baldwin Bridge. Special anchorage area B would be approximately 51,200 sq. yards and located just east of North Cove. Special anchorage area C would be approximately 185,400 sq. yards located in North Cove west of the navigable channel. Illustrations showing the locations of these proposed special anchorage areas are available in the docket.

Vessels less than 20 meters in length are not required to sound signals under Rule 35 of the Inland Navigation Rules (33 CFR 83.35) nor exhibit anchor lights or shapes under Rule 30 of the Inland Navigation Rules (33 CFR 83.30) when at anchor in a special anchorage area. Additionally, mariners using these anchorage areas are encouraged to contact local and state authorities, such as the local harbormaster, to ensure compliance with any additional applicable state and local laws. Such laws may involve, for example, compliance with direction from the local harbormaster when placing or using moorings within the anchorage.

IV. Regulatory Analyses

We developed this proposed rule after considering numerous statutes and E.O.s related to rulemaking. Below we summarize our analyses based on a number of these statutes and E.O.s, and we discuss First Amendment rights of protestors.

A. Regulatory Planning and Review

E.O.s 12866 and 13563 direct agencies to assess the costs and benefits of available regulatory alternatives and, if regulation is necessary, to select regulatory approaches that maximize net benefits. E.O. 13563 emphasizes the importance of quantifying both costs and benefits, of reducing costs, of harmonizing rules, and of promoting flexibility. This NPRM has not been designated a “significant regulatory action,” under E.O. 12866. Accordingly, the NPRM has not been reviewed by the Office of Management and Budget.

We expect minimal additional cost impacts on fishing, or recreational boats anchoring because this rule would not affect normal surface navigation. Although this proposed rulemaking may have some impact on the public, the potential impact would be minimized for the following reasons: (1) normal surface navigation will not be affected as these three areas in the Connecticut River in the vicinity of the eastern portion of Old Saybrook has been historically used as a mooring field by the town of Old Saybrook; (2) this proposed rule would simply permit eligible vessels in existing mooring areas to not use sound signals or exhibit anchor lights or shapes when at anchor there; (3) it encourages the use of existing mooring areas; and (4) the number of vessels using these special anchorage areas will be limited due to depth (less than or equal to 18 feet).

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the Connecticut River in Old Saybrook, CT may be small entities, for the reasons stated above in section IV.A, this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under E.O. 13132, Federalism, if it has a substantial direct effect on the States, on the relationship between the national government and the States, or on the distribution of power and responsibilities among the various levels of government. We have analyzed this proposed rule under that Order and have determined that it is consistent with the fundamental federalism principles and preemption requirements described in E.O. 13132.

Also, this proposed rule does not have tribal implications under E.O. 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Management Directive 023-01 and Commandant Instruction M16475.lD, which guide the Coast Guard in complying with the National Environmental Policy Act of 1969 (42 U.S.C. 4321-4370f), and have made a preliminary determination that this action is one of a category of actions that do not individually or cumulatively have a significant effect on the human environment. This proposed rule involves the establishment of special anchorage grounds. It is categorically excluded from further review under paragraph 34(f) of Figure 2-1 of Commandant Instruction M16475.lD. A preliminary environmental analysis checklist is available in the docket where indicated under ADDRESSES. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice of proposed rulemaking as being available in the docket, and all public comments, are in our online docket at http://www.regulations.gov and can be viewed by following that Web site's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

List of Subjects in 33 CFR Part 110

Anchorage grounds.

For the reasons discussed in the preamble, the Coast Guard proposes to amend 33 CFR part 110 as follows:

PART 110—ANCHORAGE REGULATIONS

1. The authority citation for part 110 continues to read as follows:

Authority: 33 U.S.C. 471, 1221 through 1236, 2071; 33 CFR 1.05-1; Department of Homeland Security Delegation No. 0170.1.

2. Add § 110.55b to subpart A to read as follows:

§ 110.55b Connecticut River, Old Saybrook, Connecticut.

(a) Special anchorage area A. All of the waters enclosed by a line beginning at latitude 41°19′54.75″ N, longitude 072°21′08.40″ W; thence to latitude 41°19′21.50″ N, longitude 072°20′49.65″ W; thence to latitude 41°19′17.80″ N, longitude 072°20′49.25″ W; thence to latitude 41°19′17.05″ N, longitude 72°20′59″ W; thence to latitude 41°19′25.40″ N, longitude 72°21′00.95″ W; thence to latitude 41°19′29.50″ N, longitude 72°21′17.60″ W; thence to latitude 41°19′35.40″ N, longitude 72°21′22.90″ W; thence to latitude 41°19′52.35″ N, longitude 72°21′26.10″ W; thence to the point of beginning.

(b) Special anchorage area B. All of the waters enclosed by a line beginning at latitude 41°17′26″ N, longitude 072°21′04″ W; thence to latitude 41°17′24.60″ N, longitude 072°21′16″ W; thence to latitude 41°17′20″ N, longitude 072°21′09″ W; thence to latitude 41°17′16″ N, longitude 072°21′05″ W; thence to latitude 41°17′16″ N, longitude 072°21′03″ W; thence to latitude 41°17′21.5″ N, longitude 072°21′04.5″ W; thence to the point of beginning.

(c) Special anchorage area C. All of the waters enclosed by a line beginning at latitude 41°17′27″ N, longitude 072°21′35″ W; thence to latitude 41°17′24″ N, longitude 072°22′01″ W; thence to latitude 41°17′16″ N, longitude 072°22′00″ W; thence to latitude 41°17′19″ N, longitude 072°21′33″ W; thence to the point of beginning.

Note to § 110.55b: All coordinates referenced use datum: NAD 83. All anchoring in the areas is under the supervision of the town of Old Saybrook Harbor Master or other such authority as may be designated by the authorities of the town of Old Saybrook, Connecticut. Mariners using these special anchorage areas are encouraged to contact local and state authorities, such as the local harbormaster, to ensure compliance with any additional applicable state and local laws. This area is principally for use by recreational craft. Temporary floats or buoys for marking anchors or moorings in place are allowed in this area. Fixed mooring piles or stakes are not allowed. All moorings or anchors shall be placed well within the anchorage areas so that no portion of the hull or rigging will at any time extend outside of the anchorage.

Dated: November 4, 2015.
K.C. Kiefer,
Captain, U.S. Coast Guard, Acting Commander First Coast Guard District.

[FR Doc. 2015-30011 Filed 11-24-15; 8:45 am]

BILLING CODE 9110-04-P